DEPARTMENT OF ENERGY

Federal Energy Regulatory Commission

[Docket No. OR23-5-000]

Zenith Energy Terminals Holdings, LLC v. Tallgrass Pony Express Pipeline, LLC, and Tallgrass Terminals, LLC; Notice of Complaint

Take notice that on July 5, 2023, pursuant to Rule 206 of the Rules of Practice and Procedure of the Federal Energy Regulatory Commission, 18 CFR 385.206 (2022), Zenith Energy Terminals Holding LLC filed a complaint against Tallgrass Pony Express Pipeline, LLC and Tallgrass Terminals, LLC. The complaint raises several issues, including matters related to Pawnee Terminal, the Buckingham Terminal, the Hereford Lateral, and Tallgrass Pony Express Northeast Colorado Lateral.

The Complainant certifies that copies of the complaint were served on the contacts listed for Respondents in the Commission's list of Corporate Officials.

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. The Respondent's answer and all interventions, or protests must be filed on or before the comment date. The Respondent's answer, motions to intervene, and protests must be served on the Complainants.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Comment Date: 5 p.m. Eastern Time on August 4, 2023.

Dated: July 10, 2023.
Debbie-Anne A. Reese,
Deputy Secretary.

[FR Doc. 2023-14997 Filed 7-13-23; 8:45 am]

BILLING CODE 6717-01-P